DEPARTMENT OF EDUCATION

Applications for New Awards; Modeling and Simulation Program

AGENCY: Office of Postsecondary Education, Department of Education.

ACTION: Notice.

SUMMARY: The Department of Education (Department) is issuing a notice inviting applications for new awards for fiscal year (FY) 2023 for the Modeling and Simulation Program (MSP), Assistance Listing Number 84.116S. This notice relates to the approved information collection under OMB control number 1894-0006.

DATES:

Applications Available: April 24, 2023.

Deadline for Transmittal of Applications: June 23, 2023.

Deadline for Intergovernmental Review: August 22, 2023.

ADDRESSES: For the addresses for obtaining and submitting an application, please refer to our Common Instructions for Applicants to Department of Education Discretionary Grant Programs, published in the Federal Register on December 7, 2022 (87 FR 75045), and available at www.federalregister.gov/d/2022-26554. Please note that these Common Instructions supersede the version published on December 27, 2021.

FOR FURTHER INFORMATION CONTACT: Robin M. Dabney, U.S. Department of Education, 400 Maryland Avenue SW, Room 2B117, Washington, DC 20202-4260. Telephone: (202) 453-7908. Email: Robin.Dabney@ed.gov.

If you are deaf, hard of hearing, or have a speech disability and wish to access telecommunications relay services, please dial 7-1-1.

SUPPLEMENTARY INFORMATION:

Full Text of Announcement

I. Funding Opportunity Description

Purpose of Program: The MSP is designed to promote the study of modeling and simulation at institutions of higher education (IHEs) through collaboration with new and existing programs, and specifically to promote the use of technology through the creation of accurate models that can simulate processes or recreate real life, by—

(a) Establishing a task force at the Department to raise awareness of and define the study of modeling and simulation;

(b) Providing grants to IHEs to develop new modeling and simulation degree programs; and

(c) Providing grants for IHEs to enhance existing modeling and simulation degree programs.

Background: According to House Report 117-403, which accompanied the FY 2023 appropriations bill for the Departments of Labor, Health and Human Services, and Education, and related agencies, “modeling and simulation technology has numerous applications for Federal and State governments and their partners in the defense, education, gaming, shipbuilding, and workforce training sectors, allowing them to generate data to help make decisions or predictions about their systems.” ¹ Modeling and simulation programs can develop tools or techniques in numerous industries to support education and training where they otherwise would be high risk or hazardous in a real-world scenario. Programs can also leverage modeling simulation and technology, such as, but not limited to, experiential learning models, economic and predictive modeling, and advanced data science and analytics. This program seeks to fund the development or enhancement of degree programs focused on modeling and simulation technology. Through grant support, we hope to increase the availability and capacity of such programs in today's world. In FY 2022, the Department provided funding to three IHEs to develop degree programs in this field. Given the additional funding for this program in FY 2023, the Department will fund new projects to expand opportunities for students who are interested in pursuing this type of degree program.

¹ H. Rept. 117-403 at p. 291 (2023).

In addition, under the MSP, a task force provides input into the development of curriculum and research on the instructional methods and pedagogy needed to further develop modeling and simulation programs. In accordance with section 891(b)(1) of the Higher Education Opportunity Act of 2008, as amended (HEA), the task force will help to define the study of modeling and simulation (including the content of modeling and simulation classes and programs), identify best practices for such study, identify core knowledge and skills that individuals who participate in modeling and simulation programs should acquire, and provide recommendations to the Secretary on these topics and on grants distribution. Grantees under this program will be members of the task force.

Priorities: This notice contains two absolute priorities and one invitational priority. Applicants may only apply under one of the two absolute priorities. In accordance with 34 CFR 75.105(b)(2)(iv), the absolute priorities are from section 891 of the HEA, 20 U.S.C. 1161v.

Absolute Priorities: For FY 2023 and any subsequent year in which we make awards from the list of unfunded applications from this competition, these priorities are absolute priorities. Under 34 CFR 75.105(c)(3) we consider only applications that meet one of these priorities. Applicants must specify which absolute priority they are responding to in their application abstract and must respond to each element of the selected absolute priority.

These priorities are:

Absolute Priority 1—Enhancing Modeling and Simulation at Institutions of Higher Education.

To be considered for a grant under this absolute priority, an eligible institution must propose to enhance an existing modeling and simulation degree program, including a major, minor, or career-track program, or an existing certificate or concentration program, and must include in its application—

(a) A letter from the president or provost of the eligible institution that demonstrates the institution's commitment to the enhancement of the modeling and simulation program at the institution of higher education;

(b) An identification of designated faculty responsible for the enhancement of the institution's modeling and simulation program; and

(c) A detailed plan for how the grant funds will be used to enhance a modeling and simulation program of the institution.

Absolute Priority 2—Establishing Modeling and Simulation Programs.

To be considered for a grant under this absolute priority, an eligible institution must propose to establish, or work toward the establishment of, a modeling and simulation program, including a major, minor, career-track, certificate, or concentration program, and must include in its application—

(a) A letter from the president or provost of the eligible institution that demonstrates the institution's commitment to the establishment of a modeling and simulation program at the institution of higher education;

(b) A detailed plan for how the grant funds will be used to establish a modeling and simulation program at the institution; and

(c) A description of how the modeling and simulation program established under this priority will complement existing programs and fit into the institution's current program and course offerings.

Invitational Priority: For FY 2023 and any subsequent year in which we make awards from the list of unfunded applications from this competition, this priority is an invitational priority. Under 34 CFR 75.105(c)(1), we do not give an application that meets this invitational priority a competitive or absolute preference over other applications.

This priority is:

Promoting Equity in Student Access to Educational Resources and Opportunities.

Under this priority, an application must demonstrate that the project will be implemented by or in partnership with one or more of the following entities:

(a) Community colleges (as defined in this notice).

(b) Historically Black colleges and universities (as defined in this notice).

(c) Tribal Colleges and Universities (as defined in this notice).

(d) Minority-serving institutions (as defined in this notice).

Definitions: The definition of “modeling and simulation” is from section 891 of the HEA. The definitions of “demonstrates a rationale,” “logic model,” “project component,” and “relevant outcome” are from 34 CFR 77.1.

Community college means “junior or community college” as defined in section 312(f) of the HEA, as amended.

Demonstrates a rationale means a key project component included in the project's logic model is informed by research or evaluation findings that suggest the project component is likely to improve relevant outcomes.

Historically Black colleges and universities means colleges and universities that meet the criteria set out in 34 CFR 608.2.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Minority-serving institution means an institution that is eligible to receive assistance under sections 316 through 320 of part A of title III, under part B of title III, or under title V of the HEA.

Modeling and simulation means a field of study related to the application of computer science and mathematics to develop a level of understanding of the interaction of the parts of a system and of a system as a whole.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Tribal College or University has the meaning ascribed it in section 316(b)(3) of the HEA.

Program Authority: 20 U.S.C. 1161v; 20 U.S.C. 1138-1138d; and the Consolidated Appropriations Act, 2023 (Pub. L. 117-328).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grant.

Estimated Available Funds: $7,920,000.

Approximately 50 percent of available funds will be used to fund awards under Absolute Priority 1, and approximately 50 percent of available funds will be used to fund awards under Absolute Priority 2.

Contingent upon the availability of funds and the quality of applications, we may make additional awards in subsequent years from the list of unfunded applications from this competition.

Estimated Range of Awards: $750,000 to $1,155,000.

Estimated Average Size of Awards: $990,000.

Maximum Award: We will not make an award exceeding $1,155,000 for the entire budget period of 36 months.

Estimated Number of Awards: 8.

Note: The Department is not bound by any estimates in this notice.

Note: Applicants must set aside sufficient funds to carry out activities related to task force participation. A listing of line-item costs associated with task force activities must include travel for at least two or three grantee representatives for two or three annual meetings to be held in Washington, DC, and/or site visits to organizations using modeling and simulation technologies to help expand awareness, and costs associated with a white paper outlining lessons learned from the enhanced or established modeling and simulation program.

Project Period: Up to 36 months.

III. Eligibility Information

1. Eligible Applicants: A public or private nonprofit institution of higher education as defined in section 101(a) of the HEA. Applicants must be eligible to apply under either Absolute Priority 1 or Absolute Priority 2 as outlined in the Absolute Priorities section. Applicants applying under Absolute Priority 1 must also be an institution of higher education that has—

(a) An established modeling and simulation degree program, including a major, minor, or career-track program; or

(b) An established modeling and simulation certificate or concentration program.

2. a. Cost Sharing or Matching: In accordance with the requirements in section 891(c)(1)(D) and (d)(1)(D) of the HEA, each eligible institution receiving a grant under this program must provide, from non-Federal sources, in cash or in-kind, an amount equal to 25 percent of the amount of the grant to carry out the activities supported by the grant.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045) and available at www.federalregister.gov/d/2022-26554, which contain requirements and information on how to submit an application. Please note that these Common Instructions supersede the version published on December 27, 2021.

2. Submission of Proprietary Information: Given the types of projects that may be proposed in applications for the MSP, your application may include business information that you consider proprietary. In 34 CFR 5.11 we define “business information” and describe the process we use in determining whether any of that information is proprietary and, thus, protected from disclosure under Exemption 4 of the Freedom of Information Act (5 U.S.C. 552, as amended). Because we plan to post on our website the application narrative sections of all MSP applications, you may wish to request confidentiality of business information.

Consistent with Executive Order 12600, please designate in your application any information that you believe is exempt from disclosure under Exemption 4. In the appropriate Appendix section of your application under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: In accordance with section 891(c)(4) of the HEA, a grant awarded under Absolute Priority 1, Enhancing Modeling and Simulation at Institutions of Higher Education, must be used by an eligible institution to carry out a plan to enhance the modeling and simulation program of the institution, which may include—

(a) Introducing activities to assist in the establishment of a major, minor, or career-track modeling and simulation program at the eligible institution;

(b) Expanding the multidisciplinary nature of the institution's modeling and simulation programs;

(c) Recruiting students into the field of modeling and simulation through the provision of fellowships or assistantships;

(d) Creating new courses to complement existing courses and reflect emerging developments in the modeling and simulation field;

(e) Conducting research to support new methodologies and techniques in modeling and simulation; and

(f) Purchasing equipment necessary for modeling and simulation programs.

In accordance with section 891(d)(3) of the HEA, a grant awarded under Absolute Priority 2, Establishing Modeling and Simulation Programs, may be used by an eligible institution to—

(a) Establish, or work toward the establishment of, a modeling and simulation program, including a major, minor, career-track, certificate, or concentration program at the eligible institution;

(b) Provide adequate staffing to ensure the successful establishment of the modeling and simulation program, which may include the assignment of full-time dedicated or supportive faculty; and

(c) Purchase equipment necessary for modeling and simulation program.

We reference additional regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210. The points assigned to each criterion are indicated in parentheses next to the criterion. An application may earn up to a total of 100 points based on the selection criteria. All applications will be evaluated based on the selection criteria as follows:

(a) Significance. (Maximum 25 points)

(1) The Secretary considers the significance of the proposed project.

(2) In determining the significance of the proposed project, the Secretary considers the following factors:

(i) The extent to which the proposed project is likely to yield findings that may be utilized by other appropriate agencies and organizations. (up to 5 points)

(ii) The extent to which the proposed project involves the development or demonstration of promising new strategies that build on, or are alternatives to, existing strategies. (up to 10 points)

(iii) The extent to which the results of the proposed project are to be disseminated in ways that will enable others to use the information or strategies. (up to 10 points)

(b) Quality of the project design. (Maximum 50 points)

(1) The Secretary considers the quality of the design of the proposed project.

(2) In determining the quality of the design of the proposed project, the Secretary considers the following factors:

(i) The extent to which there is a conceptual framework underlying the proposed research or demonstration activities and the quality of that framework. (up to 10 points)

(ii) The extent to which the proposed activities constitute a coherent, sustained program of training in the field. (up to 10 points)

(iii) The extent to which the proposed project is designed to build capacity and yield results that will extend beyond the period of Federal financial assistance. (up to 10 points)

(iv) The extent to which the proposed project represents an exceptional approach to the priority or priorities established for the competition. (up to 10 points)

(v) The extent to which the proposed project demonstrates a rationale (as defined in this notice). (up to 10 points)

(c) Quality of project personnel. (Maximum 5 points)

(1) The Secretary considers the quality of the personnel who will carry out the proposed project.

(2) In determining the quality of project personnel, the Secretary considers the extent to which the applicant encourages applications for employment from persons who are members of groups that have traditionally been underrepresented based on race, color, national origin, gender, age, or disability. (up to 2 points)

(3) In addition, the Secretary considers the qualifications, including relevant training and experience, of the project director or principal investigator. (up to 3 points)

(d) Adequacy of resources. (Maximum 5 points)

(1) The Secretary considers the adequacy of the resources for the proposed project.

(2) In determining the adequacy of resources for the proposed project, the Secretary considers the adequacy of support, including facilities, equipment, supplies, and other resources, from the applicant organization or the lead applicant organization.

(e) Quality of the management plan. (Maximum 5 points)

(1) The Secretary considers the quality of the management plan for the proposed project.

(2) In determining the quality of the management plan for the proposed project, the Secretary considers the extent to which the time commitments of the project director and principal investigator and other key project personnel are appropriate and adequate to meet the objectives of the proposed project.

(f) Quality of the project evaluation. (Maximum 10 points)

(1) The Secretary considers the quality of the evaluation to be conducted of the proposed project.

(2) In determining the quality of the evaluation, the Secretary considers the following factors:

(i) The extent to which the methods of evaluation are thorough, feasible, and appropriate to the goals, objectives, and outcomes of the proposed project. (up to 5 points)

(ii) The extent to which the methods of evaluation will provide performance feedback and permit periodic assessment of progress toward achieving intended outcomes. (up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria provided in this notice. The individual scores of the reviewers will be added and the sum divided by the number of reviewers to determine the peer review score. The Department may use more than one tier of reviews in evaluating grantees. The Department will prepare a rank order of applications based solely on the evaluation of their quality according to the selection criteria.

In the event there are two or more applications with the same final score in the rank order listing, and there are insufficient funds to fully support each of these applications, the Department will apply the following procedure to determine which application or applications will receive an award:

First Tiebreaker: The first tiebreaker will be the highest average score for the selection criterion “Quality of the Project Design.” If a tie remains, the second tiebreaker will be utilized.

Second Tiebreaker: The second tiebreaker will be the highest average score for the selection criterion “Significance.” If a tie remains, the third tiebreaker will be utilized.

Third Tiebreaker: The third tiebreaker will be the highest average score for the selection criterion “Quality of the Project Evaluation.” If a tie remains, the fourth tiebreaker will be utilized.

Fourth Tiebreaker: The fourth tiebreaker will be the highest average score for the selection criterion “Adequacy of Resources.” If a tie remains, the fifth tiebreaker will be utilized.

Fifth Tiebreaker: The fifth tiebreaker will be the application that proposes to provide the highest non-Federal share percentage, or the highest total dollar match if non-Federal share percentages are determined to be equal.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of the Department reporting under 34 CFR 75.110, the Department will use the following performance measures to evaluate the success of the MSP:

(a) The number of students enrolled in the established and enhanced modeling and simulation programs, including major, minor, career-track, certificate, and concentration programs.

(b) The number of new modeling and simulation courses in established and enhanced programs developed under the MSP that reflect emerging developments in the modeling and simulation field.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2023-08586 Filed 4-21-23; 8:45 am]

BILLING CODE 4000-01-P